DEPARTMENT OF TRANSPORTATION

Federal Aviation Administration

Fifth Meeting: RTCA Special Committee 227, Standards of Navigation Performance

AGENCY: Federal Aviation Administration (FAA), U.S. Department of Transportation (DOT).

ACTION: Meeting Notice of RTCA Special Committee 227, Standards of Navigation Performance.

SUMMARY: The FAA is issuing this notice to advise the public of the fifth meeting of the RTCA Special Committee 227, Standards of Navigation Performance.

DATES: The meeting will be held February 11-15, 2013 from 9:00 a.m. to 5:00 p.m.

ADDRESSES: The meeting will be held at EUROCONTROL Headquarters, Rue de la Fusee 96, 1130 Brussels, Belgium. A WebEx/telephone bridge will be provided upon request.

FOR FURTHER INFORMATION CONTACT: The RTCA Secretariat, 1150 18th Street NW., Suite 910, Washington, DC 20036, or by telephone at (202) 833-9339, fax at (202) 833-9434, or Web site at http://www.rtca.org. Alternately, contact Jennifer Iversen directly at (202) 330-0662, email jiversen@rtca.org, or Dave Nakamura, (425) 965-6896, at email dave.nakamura@boeing.com.

SUPPLEMENTARY INFORMATION: Pursuant to section 10(a)(2) of the Federal Advisory Committee Act (Pub. L. No. 92-463, 5 U.S.C., App.), notice is hereby given for a meeting of Special Committee 227. The agenda will include the following:

February 11-15, 2013

• Welcome, Introductions, and Administrative Remarks

• Agenda Overview

• Review Minutes and Action Items

• Update/Approve Minutes

• Review Planned Work Program for the Week

• Plenary Review—Resolution of committee review issues and finalization of draft MASPS for FRAC

• Technical Requirements Breakout Session (to occur daily as appropriate)

• Other Business

• Next Meeting Discussion

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on January 25, 2013.
Cara Hunter,
NAS Business Management Branch, ANG-A14, Federal Aviation Administration.

[FR Doc. 2013-02159 Filed 1-31-13; 8:45 am]

BILLING CODE 4910-13-P